DEPARTMENT OF THE INTERIOR

Bureau of Land Management

[LLUT-92000-09-L13200000-EL0000-24-1A00, UTU86038]

Notice of Federal Competitive Coal Lease Sale, Utah

AGENCY: Bureau of Land Management, Interior.

ACTION: Notice of Competitive Coal Lease Sale, Miller Canyon Tract, Coal Lease Application UTU-86038.

SUMMARY: Notice is hereby given that the United States Department of the Interior, Bureau of Land Management (BLM) Utah State Office will offer certain coal resources described below as the Miller Canyon Tract (UTU-86038) in Emery County, Utah, for competitive sale by sealed bid, in accordance with the provisions for competitive lease sale notices in 43 CFR 3422.2(a), and the Mineral Leasing Act of 1920, as amended and supplemented (30 U.S.C. 181 et seq.).

DATES: The lease sale will be held at 1 p.m., Thursday, September 3, 2009. The sealed bid must be sent by certified mail, return receipt requested, or be hand delivered to the address indicated below, and must be received on or before 10 a.m., Thursday, September 3, 2009.

The BLM cashier will issue a receipt for each hand delivered sealed bid. Any bid received after the time specified will not be considered and will be returned. The outside of the sealed envelope containing the bid must clearly state that the envelope contains a bid for Coal Lease Sale UTU-86038, and is not to be opened before the date and hour of the sale.

ADDRESSES: The lease sale will be held in the Utah State Office, BLM, in the Monument Conference Room, Fifth Floor, 440 West 200 South, Salt Lake City, Utah. Sealed bids clearly marked “Sealed Bid for UTU-86038—Not to be opened before 1 p.m., Thursday, September 3, 2009” can be hand delivered to the cashier, Utah State Office, 440 West 200 South, Suite 500, Salt Lake City, Utah, or may be mailed to the BLM, Utah State Office, P.O. Box 45155, Salt Lake City, Utah 84145-0155.

FOR FURTHER INFORMATION CONTACT: Stan Perkes, 440 West 200 South, Suite 500, Salt Lake City, Utah 84101-1345 or telephone 801-539-4036.

SUPPLEMENTARY INFORMATION: This Coal Lease Sale is being held in response to a lease by application (LBA) submitted by Consolidation Coal Company to BLM on February 7, 2008. All coal LBAs submitted to BLM for processing on or after November 7, 2005, are subject to cost recovery on a case-by-case basis (See 43 CFR 3000.10(d)(1), 70 FR 58872, October 7, 2005). The cost recovery rules implemented for coal LBAs at 43 CFR 3473.2(f) (70 FR 58876, October 7, 2005) require the applicant who nominates a tract for a competitive lease sale to pay the processing fee on a case-by-case basis as described in 43 CFR 3000.11 prior to publication of the sale notice. Consolidation Coal Company paid the BLM a processing fee in the amount of $20,130. The successful bidder must pay to BLM the cost recovery amount of all costs BLM incurs processing the coal lease sale and additionally must pay all processing costs that BLM incurs after the date of the sale notice leading to lease issuance (See 43 CFR 3473.2(f)). If the successful bidder is someone other than the applicant, BLM will refund to the applicant the processing fee specified in this sale notice. If there is no successful bidder, the applicant remains responsible for all processing fees.

The coal resources to be offered consist of all recoverable reserves available in the following described lands located in Emery County, Utah, approximately three miles south of Emery, Utah, on private lands with federally-administered minerals:

T. 22 S., R. 6 E., SLM, Emery County, Utah

Sec. 23, S½SW¼;

Sec. 26, NW¼NW¼.

Containing approximately 120.00 acres in Emery County, Utah.

The Miller Canyon coal tract has one minable coal bed, known as the “I” coal bed. The minable portions of the “I” coal bed in this area are around 12 feet in thickness. The “I” coal bed, within the tract, contains approximately 561,000 tons of recoverable high-volatile B bituminous coal. The coal quality in the “I” coal bed on an “as received basis” is as follows: 12,179 Btu/lb., 6.07 percent moisture, 8.37 percent ash, 38.89 percent volatile matter, 47.24 percent fixed carbon, and 1.08 percent sulfur. The Department of the Interior has established a minimum bid of $100 per acre, or fraction thereof. The minimum bid is not intended to represent fair market value (FMV). The Miller Canyon Tract may be leased to the qualified bidder of the highest cash amount, provided that the high bid equals or exceeds the FMV for the tract as determined by the authorized officer after the sale.

The BLM held a public hearing and requested comments on the Environmental Assessment (EA) and the FMV of the Miller Canyon Tract on January 21, 2009. The BLM prepared the Finding of No Significant Impact (FONSI), Decision Record (DR)/Decision Notice (DN). The BLM signed the FONSI/DR March 2, 2009. No appeals of the BLM decision to lease were filed during the appeal period that ended on April 3, 2009.

The lease that may be issued as a result of this offering will provide for payment of an annual rental of $3 per acre, a royalty rate of 12.5 percent of the value of coal mined by surface methods, and a royalty of 8 percent of the value of the coal produced by underground mining methods. The value of the coal will be determined in accordance with 30 CFR 206.250.

The required Detailed Statement for the offered tract, including bidding instructions and sales procedures under 43 CFR 3422.3-2, and the terms and conditions of the proposed coal lease, is available from BLM, Utah State Office, P.O. Box 45155, Salt Lake City, Utah 84145-0155 or in the Public Room (Room 500), 440 West 200 South, Salt Lake City, Utah 84101. All case file documents and written comments submitted by the public on Fair Market Value or royalty rates, except those portions identified as proprietary by the commentator and meeting exemptions stated in the Freedom of Information Act, are available for public inspection during normal business hours in the BLM Public Room (Room 500).

Approved: May 22, 2009.
Selma Sierra,
State Director.

[FR Doc. E9-18307 Filed 7-30-09; 8:45 am]

BILLING CODE 4310-DQ-P